DEPARTMENT OF ENERGY

Federal Energy Regulatory Commission

[Docket No. PF15-1-000]

PennEast Pipeline Company, LLC; Notice of Postponement of Public Scoping Meeting for the Penneast Pipeline Project

On January 13, 2015, the Federal Energy Regulatory Commission (FERC or Commission) issued a Notice of Intent to Prepare an Environmental Impact Statement for the Planned PennEast Pipeline Project, Requests for Comments on Environmental Issues, and Notice of Public Scoping Meetings. The notice solicited comments on the potential environmental impacts of the planned project and announced the time and location of five public scoping meetings being held for the environmental proceedings.

Due to unforeseen circumstances, the Commission staff is postponing the scoping meeting planned for Wednesday, January 28, 2015 at Bucks County Community College, Kevin and Sima Zlock Performing Arts Center Gateway Auditorium, 275 Swamp Road, Newtown, Pennsylvania 18940. Once a new venue is established and scheduled, the Commission will issue another notice advising of the new location and time.

Dated: January 26, 2015.
Kimberly D. Bose,
Secretary.

[FR Doc. 2015-04049 Filed 2-26-15; 8:45 am]

BILLING CODE 6717-01-P